DEPARTMENT OF HEALTH AND HUMAN SERVICES

National Institutes of Health

National Center for Research Services; Submission for OMB Review; Comment Request

Request for generic clearance to collect public comments on the proposed standards of care for chimpanzees in the federally supported chimpanzee sanctuary system.

SUMMARY: Under the provisions of section 3507(a)(1)(D) of the Paperwork Reduction Act of 1995, the National Center for Research Services, the National Institutes of Health (NIH) has submitted to the Office of Management and Budget (OMB) a request for review and approval the information collection listed below. The National Institutes of Health may not conduct or sponsor, and the respondent is not required to respond to, an information collection that has been extended, revised, or implemented on or after October 1, 1995 unless it displays a currently valid OMB control number.

Proposed Collection: Title: Request for Generic Clearance to collect public comments on the Proposed Standards of Care Regulations covering chimpanzees in the federally supported Chimpanzee Sanctuary System. Type of Information Collection Request: New. Need and Use of Information Collection: The Chimpanzee Health Improvement, Maintenance, and Protection Act of 2000 (Public Law 106-551) requires the Secretary of the Department of Health and Human Services to develop Standards of Care Regulations for chimpanzees in the Sanctuary System. The Act further requires the Secretary to publish the proposed standards in the Federal Register to provide a 60 day period for public comment on the proposed standards. Following receipt of public comments, NCRR/NIH will consider these comments in preparing the final regulations for the sanctuary system. The public includes members of the general population, interested communities (local, regional, and national organizations), and non-profit business entities. Input from the public will allow the NCRR/NIH staff to receive critical review of the standards from different stakeholders, provide a review and analyses of the burden estimated by the government, and help assure that the proposed standards are necessary and current. Frequency of Response: One time event. Affected Public: Non-profit entities serving as a contractor to the government to operate and maintain the federally supported Chimpanzee Sanctuary System. Type of Respondents: Non-profit businesses that possess qualified staff and resources needed to develop, operate, and maintain several hundred chimpanzees. Estimated number of respondents: 1-3. Number Respondents per Response: 1-3. Average Burden Hours Per Response: 15.4. Burden Hours Requested: 186.95. Total annualized cost to respondents is estimated at $8412.75. There is no capital, operating, and/or maintenance costs to report.

Estimated Annual Reporting and Recordkeeping Burden
| Annual number of respondents* | Annual frequency | Average burden hours | Annual burden hours per response
Reporting:
§ 9.3(a)(7)(v)(C ) | 1-3 | 2 | 6 | 12
§ 9.6(c)(6) | 1-3 | 3 | 2 | 6
§ 9.6(d) | 1-3 | 2 | 0.5 | 1
§ 9.8(a)(4) | 1-3 | 4 | 5 | 20
§ 9.11(a) | **1-3 | 1 | 1 | 12
§ 9.11(b)(1) (iii) | **1-3 | 6 | 2 | 12
§ 9.12(b) | 1-3 | 1 | 6 | 6
Subtotal |  | 20 |  | 69
* Presently, there is only one (1) respondent, the Contractor for the federally supported Chimpanzee Sanctuary System. The estimates are based upon a maximum of three (3) respondents in the future.
** See also § 9.5(c) & 9.5(e).

Estimated Annual Reporting and Recordkeeping Burden
| Annual number of Respondents* | Annual frequency | Average burden hours | Annual burden hours per response
Recordkeeping:
§ 9.3(a)(7)(v)(c) | 1-3 | 2 | 2 | 4
§ 9.3(a)(10) | **1-3 | 1 | 8 | 8
§ 9.3(a)(11) | **1-3 | 1 | 8 | 8
§ 9.4(d)(1) | 1-3 | 1 | 1 | 1
§ 9.4(d)(3) | 1-3 | 1 | 6 | 6
§ 9.4(c) | 1-3 | 3 | 8 | 24
§ 9.5(c)(4) | 1-3 | 1 | 2 | 2
§ 9.5 (e) | 1-3 | 1 | 4 | 4
§ 9.6(c)(8) | 1-3 | 5 | 0.05 | 0.25
§ 9.6(c)(10) | 1-3 | 4 | 0.1 | 0.4
§ 9.8(a)(1-4) | 1-3 | 10 | 0.5 | 5
§ 9.8(b) | 1-3 | 5 | 2 | 10
§ 9.9(a)(3) | 1-3 | 12 | 0.2 | 2.4
§ 9.10(a)(1) | 1-3 | 12 | 0.2 | 2.4
§ 9.10(a)(2) | 1-3 | 4 | 3 | 12
§ 9.10(b)(1) | 1-3 | 3 | 1.5 | 4.5
§ 9.11(a) | ***1-3 | 6 | 1 | 6
§ 9.12(b)(1) | ***1-3 | 1 | 3 | 3
Subtotal |  | 69 |  | 102.55
** See § 9.5(c) & 9.5(e) also.
*** The reporting requirements for these sections vary because it is estimated that chimpanzees will be shipped 6 times per year. This requires 6 notifications of shipment to the Project Officer. It is estimated that approximately 1 of these shipments might require reporting because of undesirable conditions.

Estimated Annual Reporting and Recordkeeping Burden
| Annual number of respondents | Annual frequency | Average burden hours | Annual burden hours per response
Disclosure:
§ 9.3(a)(10) ** | 1-3 | 6 | 0.5 | 3
§ 9.3(a)(11) ** | 1-3 | 1 | 0.5 | 1
§ 9.3(a)(13) | 1-3 | 1 | 1 | 1
§ 9.4(c) | 1-3 | 1 | 0.1 | 0.1
§ 9.4(d)(2) | 1-3 | 1 | 0.1 | 0.1
§ 9.5(e) | 1-3 | 1 x event | 2 | 2
§ 9.5(f)(2) | 1-3 | <1/5 | 8 | 1.6
§ 9.6(c)(10) | 1-3 | 4 | 0.1 | 0.4
§ 9.9(a)(3) | 1-3 | 10 | 0.2 | 2
§ 9.10(a)(1) | 1-3 | 10 | 0.2 | 2
§ 9.10(b)(1) | 1-3 | 1 | 0.2 | 0.2
§ 9.11(a) | 1-3 | 2 | 1 | 2
Subtotal |  | 38.02 |  | 15.4
Total | 1-3 | 127.02 |  | 186.95
** See 9.5(c) & 9.5(e) also.
*** The reporting requirements for these sections vary because it is estimated that chimpanzees will be shipped 6 times per year. This requires 6 notifications of shipment to the Project Officer. It is estimated that approximately 1 of these shipments might require reporting because of undesirable conditions such as inadequate food or water, unexpected death or illness, or any conditions affecting animal welfare.

Request for Comments: Written comments from the public and affected entities are invited on one or more of the following points: (1) Whether the proposed collection of information is necessary for the proper monitoring and oversight of the care, welfare, and maintenance of the chimpanzees, (2) the accuracy of the agency's estimate of the burden of the proposed collection of information, (3) ways to enhance the quality, utility, and clarity of the information to be collected, and (4) ways to minimize the burden of the collection of the information on those who are to respond, including the use of automated, electronic, mechanical, and other technological collection techniques or other forms of information technology.

Direct comments to OMB: Written comments and/or suggestions regarding items contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact: Dr. William Watson, NCRR, 6701 Democracy Boulevard, Room 954, Bethesda, MD 20892-4874, telephone (301) 345-0747 (not a toll-free number), or e-mail; watsonwm@mail.nih.gov.

Comments Due Date: Comments regarding this information collection are best assured of having full effect if received within 30 days of the date of this publication.

Dated: January 11, 2005.
Patricia Newman,
National Center for Research Services Project Clearance Liaison, National Institutes of Health.

[FR Doc. 05-587 Filed 1-11-05; 8:45 am]

BILLING CODE 4140-01-P